ENVIRONMENTAL PROTECTION AGENCY

40 CFR Part 52

[MD135-3099a; FRL-7671-4]

Approval and Promulgation of Air Quality Implementation Plans; Maryland; Control of Volatile Organic Compound Emissions From Portable Fuel Containers

AGENCY: Environmental Protection Agency (EPA).

ACTION: Direct final rule.

SUMMARY: EPA is taking direct final action to approve revisions to the Maryland State Implementation Plan (SIP). The revisions pertain to new emission standards for portable fuel containers. EPA is approving these revisions in accordance with the requirements of the Clean Air Act.

DATES: This rule is effective on August 30, 2004 without further notice, unless EPA receives adverse written comment by July 29, 2004. If EPA receives such comments, it will publish a timely withdrawal of the direct final rule in the Federal Register and inform the public that the rule will not take effect.

ADDRESSES: Submit your comments, identified by MD 135-3099 by one of the following methods:

A. Federal eRulemaking Portal: http://www.regulations.gov. Follow the on-line instructions for submitting comments.

B. E-mail: morris.makeba@epa.gov.

C. Mail: Makeba Morris, Chief, Air Quality Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. MD 135-3099. EPA's policy is that all comments received will be included in the public docket without change, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Copies of the documents relevant to this action are available for public inspection during normal business hours at the Air Protection Division, U.S. Environmental Protection Agency, Region III, 1650 Arch Street, Philadelphia, Pennsylvania 19103; the Air and Radiation Docket and Information Center, U.S. Environmental Protection Agency, 1301 Constitution Avenue, NW., Room B108, Washington, DC 20460; and Maryland Department of the Environment, 1800 Washington Boulevard, Suite 705, Baltimore, Maryland 21230.

FOR FURTHER INFORMATION CONTACT: Marilyn Powers, (215) 814-2308, or by e-mail at powers.marilyn@epa.gov.

SUPPLEMENTARY INFORMATION:

I. Background

In December 1999, the Environmental Protection Agency (EPA) determined that the State Implementation Plan (SIP) submittals for 10 areas, including the Baltimore and Philadelphia-Wilmington-Trenton severe nonattainment areas, required additional emission reductions in order for these areas to attain the one-hour ozone standard.

As part of a regional effort to address these emission reduction shortfalls in the Ozone Transport Region (OTR), the Ozone Transport Commission (OTC) developed control measures into model rules and estimated emission reductions that would result from their implementation. One of the model rules was for control of volatile organic compound (VOC) emissions from portable fuel containers. The OTC model rules were based on existing rules developed by the California Air Resources Board (CARB), which were analyzed and modified by the OTC workgroup to address emission reduction needs in the OTR. Implementation of these model rules will help OTR states attain and maintain the one-hour ozone standard and reduce eight-hour ozone levels.

II. Summary of SIP Revision

On March 8, 2002, the Maryland Department of the Environment submitted a formal revision to its SIP. The SIP revision consists of new regulation COMAR 26.11.13.07 Control of VOC Emissions from Portable Fuel Containers. This regulation applies statewide to any person who sells, supplies, offers for sale, or manufactures for sale portable fuel containers and/or spout for use in Maryland on or after January 1, 2003.

This regulation requires each portable fuel container and/or spout to meet the following requirements: (1) Have only one opening for both filling and pouring, (2) have an automatic shut-off to prevent overfill during refueling, (3) automatic closing and sealing of the container and/or spout when not dispensing fuel, (4) have a minimum flow rate and fill level, (5) meet a permeation standard, (6) have a manufacturer's warranty against defects, and (7) clearly display a label with the date of manufacture and identifying the container and/or spout as a spill proof system. Also included in the regulation are compliance testing requirements, exemptions, recordkeeping, and administrative requirements.

III. Final Action

EPA is approving a revision to the Maryland SIP that adds new regulation .07 under COMAR 26.11.13 to establishes VOC emission standards for portable fuel containers. Implementation of this rule will result in statewide emission reductions, and will help the ozone nonattainment areas in the state attain the one-hour ozone standard.

EPA is publishing this rule without prior proposal because the Agency views this as a noncontroversial amendment and anticipates no adverse comment. However, in the “Proposed Rules” section of today's Federal Register, EPA is publishing a separate document that will serve as the proposal to approve the SIP revision if adverse comments are filed. This rule will be effective on August 30, 2004 without further notice unless EPA receives adverse comment by July 29, 2004. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by August 30, 2004. Filing a petition for reconsideration by the Administrator of this final rule does not affect the finality of this rule for the purposes of judicial review nor does it extend the time within which a petition for judicial review may be filed, and shall not postpone the effectiveness of such rule or action. This action to approve the Maryland's VOC emission standards for portable fuel containers, may not be challenged later in proceedings to enforce its requirements. (See section 307(b)(2).)

List of Subjects in 40 CFR Part 52

Environmental protection, Air pollution control, Incorporation by reference, Ozone, Reporting and recordkeeping requirements, Volatile organic compounds.

Dated: May 27, 2004.
James W. Newsom,
Acting Regional Administrator, Region III.

40 CFR part 52 is amended as follows:

PART 52—[AMENDED]

1. The authority citation for part 52 continues to read as follows:

Authority: 42 U.S.C. 7401 et seq.

Subpart V—Maryland

2. Section 52.1070 is amended by adding paragraph (c)(184) to read as follows:

§ 52.1070 Identification of plan.

* * * * *

(c) * * *

(184) Revisions to the Code of Maryland Administrative Regulations (COMAR) for the Control of VOC Emissions from Portable Fuel Containers submitted on March 8, 2002 by the Maryland Department of the Environment:

(i) Incorporation by reference.

(A) Letter of March 8, 2002 from the Maryland Department of the Environment transmitting an addition to Maryland's State Implementation Plan pertaining to the control of volatile organic compounds (VOC) emissions from portable fuel containers.

(B) Addition of new regulation .07 under COMAR 26.11.13—Control of VOC Emissions from Portable Fuel Containers, adopted by the Secretary of the Environment on December 21, 2001, and effective on January 21, 2002.

(ii) Additional Material.—Remainder of the State submittal pertaining to the revisions listed in paragraph (c)(184)(i) of this section.

[FR Doc. 04-14602 Filed 6-28-04; 8:45 am]

BILLING CODE 6560-50-P